FEDERAL COMMUNICATIONS COMMISSION

[DA 17-400]

Consumer Advisory Committee

AGENCY: Federal Communications Commission.

ACTION: Notice.

SUMMARY: The Commission announces the next meeting date, time, and agenda of its Consumer Advisory Committee (hereinafter the “Committee”). The mission of the Committee is to make recommendations to the Commission regarding consumer issues within the jurisdiction of the Commission and to facilitate the participation of consumers (including underserved populations, such as Native Americans, persons living in rural areas, older persons, people with disabilities, and persons for whom English is not their primary language) in proceedings before the Commission.

DATES: May 19, 2017, 11:00 a.m. to 2:00 p.m.

ADDRESSES: Federal Communications Commission, 445 12th Street SW., Commission Meeting Room TW-C305, Washington, DC 20554.

FOR FURTHER INFORMATION CONTACT: Scott Marshall, Consumer and Governmental Affairs Bureau, (202) 418-2809 (voice or Relay), or email Scott.Marshall@fcc.gov.

SUPPLEMENTARY INFORMATION: This is a summary of the Commission's document DA 17-400, released April 27, 2017, announcing the Agenda, Date, and Time of the Committee's Next Meeting.

Meeting Agenda

At its May 19, 2017 meeting, it is anticipated that the Committee will consider a recommendation from its Robocalls Working Group regarding the Commission's Notice of Proposed Rulemaking and Notice of Inquiry on unwanted robocalls, released March 23, 2017. It is expected that the Committee will also receive presentations by FCC staff and outside speakers on matters of interest to the Committee. A limited amount of time will be available on the agenda for comments from the public.

If time permits, the public may ask questions of presenters via the email address livequestions@fcc.gov or via Twitter using the hashtag #fcclive. In addition, the public may also follow the meeting on Twitter @fcc or via the Commission's Facebook page at www.facebook.com/fcc. Alternatively, members of the public may send written comments to: Scott Marshall, Designated Federal Officer of the Committee at the address provided below.

The meeting is open to the public, and the site is fully accessible to people using wheelchairs or other mobility aids. Reasonable accommodations for people with disabilities, such as sign language interpreters, open captioning, assistive listening devices, and Braille copies of the agenda are available upon request. The request should include a detailed description of the accommodation needed and contact information. Please provide as much advance notice as possible; last minute requests will be accepted, but may not be possible to fill. To request an accommodation, send an email to fcc504@fcc.gov or call the Consumer and Governmental Affairs Bureau at 202-418-0530 (voice), 202-418-0432 (TTY).

Federal Communications Commission.
D'wana R. Terry,
Acting Deputy Bureau Chief, Consumer and Governmental Affairs Bureau.

[FR Doc. 2017-08969 Filed 5-3-17; 8:45 am]

BILLING CODE 6712-01-P